POSTAL SERVICE

39 CFR Part 501

Revisions to the Requirements for Authority to Manufacture and Distribute Postage Evidencing Systems

AGENCY: Postal Service.

ACTION: Final rule.

SUMMARY: In this final rule, the Postal Service™ amends its regulations on authorization to manufacture and distribute postage evidencing systems. The amendment corrects language that conflicts with the way we do business with PC Postage vendors.

DATES: This rule is effective July 16, 2007.

FOR FURTHER INFORMATION CONTACT: Marlo Kay Ivey at 202-268-7613 or Postage Technology Management, Postal Service, at 703-292-3691.

SUPPLEMENTARY INFORMATION: The Postal Service published a final rule in the Federal Register on November 9, 2006 to revise 39 CFR 501, Authorization to Manufacture and Distribute Postage Meters.

As a result, language was used in paragraph 501.16(d) that is in conflict with the way we do business with PC Postage® vendors. This revision will correct that language.

List of Subjects in 39 CFR Part 501

Administrative practice and procedure.

For the reasons set out in this document, the Postal Service is amending 39 CFR part 501 as follows:

PART 501—AUTHORIZATION TO MANUFACTURE AND DISTRIBUTE POSTAGE EVIDENCING SYSTEMS

1. The authority citation for 39 CFR part 501 continues to read as follows:

Authority: 5 U.S.C. 552(a); 39 U.S.C. 101, 401, 403, 404, 410, 2601, 2605, Inspector General Act of 1978, as amended (Pub. L. 95-452, as amended); 5 U.S.C. App. 3.

2. Section 501.16 is revised to read as follows:

§ 501.16 PC postage payment methodology.

(a) The PC Postage customer is permitted to make payments for postage in one of two ways: Automated clearinghouse (ACH) transfer or credit card.

(b) The provider must make payments on behalf of the customer to the Postal Service in accordance with contractual and/or regulatory responsibilities.

(c) The Postal Service requires that the provider publicize to all PC Postage customers the following payment options (listed in order of preference):

(1) Automated clearinghouse (ACH) debits/credits.

(2) Credit cards.

(d) Returned ACH debits are the responsibility of the Postal Service. The RC must lock the customer account immediately so that the customer is unable to reset the account until the Postal Service receives payment in full.

(e) Refunds. The provider issues a refund to a customer for any unused postage in a Postage Evidencing System. After verification by the Postal Service, the provider will be reimbursed by the Postal Service for the individual refunds provided to customers by the provider.

(f) Security and revenue protection. To receive Postal Service approval to continue to operate PC Postage systems, the provider must submit to a periodic audit of its system, to be conducted by an independent systems auditor, the frequency and scope of which shall be determined by PTM. All such audits will be an expense of the provider.

(g) Inspection of records and facilities. The provider must make its facilities, which handle the operation of the PC Postage system and all records about the operation of the system, available for inspection by representatives of the Postal Service at all reasonable times.

(h) To the extent that the customer maintains funds on deposit for the payment of postage, the provider is required to incorporate the following language into its agreements with PC Postage customers:

Acknowledgment of Deposit Requirement—PC Postage

By signing this agreement with the provider, you represent that you have read the Acknowledgment of Deposit Requirement—PC Postage and are familiar with its terms. You agree that, upon execution of this agreement with the provider, you will also be bound by all terms and conditions of the Acknowledgment of Deposit Requirement—PC Postage, as it may be amended from time to time.

Neva Watson,
Attorney, Legislative.

[FR Doc. 07-2955 Filed 6-14-07; 8:45 am]

BILLING CODE 7710-12-M